DEPARTMENT OF DEFENSE

Department of the Army; Corps of Engineers

Board on Coastal Engineering Research

AGENCY: Department of the Army, DoD.

ACTION: Notice of Advisory Committee meeting.

SUMMARY: The Department of the Army is publishing this notice to announce the following Federal advisory committee meeting of the Board on Coastal Engineering Research. This meeting is open to the public.

DATES: Dates and Location: The Board on Coastal Engineering Research will meet from 8:00 a.m. to 1:00 p.m. on September 9, 2014, and reconvene from 8:00 a.m. to 5:00 p.m. on September 10, 2014. Both sessions of the meeting will be held in the Observation Post, The Presidio, 211 Lincoln Boulevard, San Francisco, CA 94129. The Executive Session of the Board will convene from 8:00 a.m. to 11:00 a.m. on September 11, 2014, in the Lobby Conference Room, 1455 Market Street, San Francisco, CA 94103. All sessions are open to the public. For more information about the Board, please visit http://chl.erdc.usace.army.mil/cerb.

FOR FURTHER INFORMATION CONTACT: Colonel Jeffrey R. Eckstein, Designated Federal Officer (DFO) and Executive Secretary, U.S. Army Engineer Research and Development Center, Waterways Experiment Station, 3909 Halls Ferry Road, Vicksburg, MS 39180-6199, phone 601-634-2513, or Jeffrey.R.Eckstein@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Purpose of the Meeting: The theme of the meeting is Coastal System Resiliency—Linking Navigation Dredging, Beneficial Use, Ecosystem Restoration and Coastal Storm Risk Management. The purpose of the meeting is to review the coastal engineering challenges within the southwest Pacific coastal region, focusing on regional sediment management and the beneficial (re)use of dredged material to improve the resilience of our coastal systems and to identify research and technology that is needed to help Districts and the Nation meet those challenges.

Agenda: On Tuesday morning, September 9, 2014, panel presentations will deal with the California Coastal Systems. Presentations will include Ocean Protection Council—West Coast Governor's Agreement; California Coastal Sediment Master Plan/Coastal Sediment Management Workgroup/Highlight Regional Sediment Management Plans Collectively; San Francisco Bay Sediment Budgets and Sand Mining; California Coastal Analysis and Mapping Project, Open Pacific Coast Study; Application of Engineer Research and Development Center (ERDC) Tools for Sustainable West Coast Projects; and Community Exposure to Tsunami Hazards in California. There will be an optional field trip Tuesday afternoon, which is open to the public.

On Wednesday morning, September 10, 2014, the Board will reconvene to discuss Innovative Dredge Material Management and Coastal System Resiliency. Presentations will include Ocean Beach Nearshore Placement; Fine-Grained Sediment in Coastal Sediment Management: Deal Breaker or Deal Maker; Long-Term Management Strategy Modeling for Optimization of Dredged Material Placement; North Atlantic Coast Comprehensive Study (NACCS) Update; Coastal Resilience: The Environment, Infrastructure, and Human Systems, Outcomes and Actions of the May Conference; and Best Practices for Sustainable and Resilient Coastal Development through Consolidation of Local Sea Level Dynamics. The afternoon session continues with the Coastal System Resiliency panel. Presentations include Climate Change and Climate Change Adaptation; Past and Future of Nearshore Processes Research, Workshop Results; California Coastal Commission—Sea Level Rise; and The CERB Resilience Charge: A Framework for Quantifying Resilient Coastal Systems.

The Board will meet in Executive Session to discuss ongoing initiatives and future actions on Thursday morning, September 11, 2014.

Meeting Accessibility: Pursuant to 5 U.S.C. 552b, as amended, and 41 CFR 102-3.140 through 102-3.165, and subject to the availability of space, the meeting is open to the public. Because seating capacity is limited, advance registration is required. Registration can be accomplished as set forth below. Oral participation by the public is scheduled for 4:00 p.m. on Wednesday, September 10, 2014. The Observation Post is fully handicap accessible. Transportation will be provided from the Sheraton Fisherman's Wharf, 2500 Mason Street, San Francisco, CA, to the Observation Post. Metered parking is available at the Observation Post, Presidio. For additional information about public access procedures, please contact Colonel Eckstein, the Board's Designated Federal Officer, at the email address or telephone number listed in the FOR FURTHER INFORMATION CONTACT section.

Registration: Individuals who wish to attend the meeting of the Board must register with the DFO by email, the preferred method of contact, no later than September 2, using the electronic mail contact information found in the FOR FURTHER INFORMATION CONTACT section, above. The communication should include the registrant's full name, title, affiliation or employer, email address, and daytime phone number. If applicable, include written comments or statements with the registration email.

Written Comments and Statements: Pursuant to 41 CFR 102-3.015(j) and 102-3.140 and section 10(a)(3) of the FACA, the public or interested organizations may submit written comments or statements to the Board, in response to the stated agenda of the open meeting or in regard to the Board's mission in general. Written comments or statements should be submitted to Colonel Jeffrey R. Eckstein, DFO, via electronic mail, the preferred mode of submission, at the address listed in the FOR FURTHER INFORMATION CONTACT section above. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the For Further Information Contact section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Jeffrey R. Eckstein,
Colonel, Corps of Engineers, Designated Federal Officer.

[FR Doc. 2014-18767 Filed 8-7-14; 8:45 am]

BILLING CODE 3720-58-P